COMMISSION ON CIVIL RIGHTS

Agenda and Notice of Public Meeting of the District of Columbia, Maryland and Virginia State Advisory Committees

Notice is hereby given, pursuant to the provisions of the rules and regulations of the U.S. Commission on Civil Rights, that a meeting of the District of Columbia, Maryland and Virginia Advisory Committees to the Commission will convene at 9:30 a.m. and adjourn at 1:00 p.m. on January 9, 2002, at the Fifth Floor Conference Room, 624 9th Street, NW., Washington, DC 20001. The Inter-SAC Committee will plan necessary details for the forthcoming Forum on the aftermath of 9-11 attacks.

Persons desiring additional information, or planning a presentation to the Committee, should contact Ki-Taek Chun, Director of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, December 28, 2001.
Debra A. Carr,
Deputy General Counsel, Office of the General Council.

[FR Doc. 01-32259 Filed 12-31-01; 10:44 am]

BILLING CODE 6335-01-M